ENVIRONMENTAL PROTECTION AGENCY

40 CFR Part 300

[FRL-7922-6]

National Oil and Hazardous Substances Pollution Contingency Plan; National Priorities List

AGENCY: Environmental Protection Agency.

ACTION: Notice of partial deletion of the Surface Soils of the South Tacoma Field (STF) Operable Unit of Commencement Bay—South Tacoma Channel Superfund Site from the National Priorities List.

SUMMARY: The U.S. Environmental Protection Agency (EPA) Region 10 announces the deletion of the surface soils at the South Tacoma Field Operable Unit of the South Tacoma Channel Superfund Site (the Site) from the National Priorities List (NPL). The NPL is defined in Appendix B of 40 CFR part 300 which is the National Oil and Hazardous Substances Pollution Contingency Plan (NCP), which EPA promulgated pursuant to section 105 of the Comprehensive Environmental Response, Compensation, and Liability Act of 1980 (CERCLA), as amended. This partial deletion pertains to the South Tacoma Field soils portion of the Site. This partial deletion does not pertain to the groundwater portion of the South Tacoma Field or to other operable units of the South Tacoma Channel Site. EPA and the State of Washington have determined that the Site poses no significant threat to public health or the environment. All appropriate response actions for soils have been implemented, therefore, no further remedial measures pursuant to CERCLA are appropriate. Partial deletion of STF soils from the NPL will not affect the status of STF soils on any Washington Department of Ecology (Ecology) lists and does not preclude Ecology from conducting future investigations or requiring response under State law on any portion of the Site.

EFFECTIVE DATE: June 14, 2005.

FOR FURTHER INFORMATION CONTACT: Kris Flint, Remedial Project Manager, U.S. Environmental Protection Agency, Region 10, 1200 Sixth Avenue, ECL-111, Seattle, Washington 98101, (206) 553-8155.

SUPPLEMENTARY INFORMATION: The site to be deleted from the NPL is: Surface Soils of the South Tacoma Field Operable Unit of the Commencement Bay-South Tacoma Channel. A Notice of Intent to Delete for this Site was published in the Federal Register on April 11, 2005 (70 FR 18347). The closing date for comments was May 11, 2005. One public comment was received expressing general support of the proposed decision and does not require a responsiveness summary. Also during the public comment period, EPA received written concurrence on the proposed decision from the Agency for Toxic Substances and Disease Registry (ATSDR).

EPA identifies sites that appear to present a significant risk to public health, welfare, or the environment and it maintains the NPL as the list of those sites. Any site deleted from the NPL remains eligible for Fund-financed remedial action in the unlikely event that conditions at the site warrant such action. Section 300.425(e)(3) of the NCP states that Fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovermental relations, Penalties, Reporting and recordkeeping requirements, Superfund, Water pollution control, Water supply.

Dated: May 31, 2005.
Julie Hagensen,
Acting Regional Administrator, Region 10.

For the reasons set out in the preamble, part 300 title 40 of Chapter 1 of the CFR, is amended as follows:

PART 300—[AMENDED]

1. The authority citation for part 300 continues to read as follows:

Authority: 42 U.S.C. 9601-9657; 33 U.S.C. 1321(c)(2); E.O. 12777, 56 FR 54757, 3 CFR, 1991 Comp., P.351; E.O. 12580.52 FR 2923.3 CFR, 1987 Comp., p.193.

Appendix B—[Amended]

2. Table 1 of Appendix B to part 300 is amended by adding a “P” in the Notes column for the entry “Commencement Bay, South Tacoma Channel,” in WA.

[FR Doc. 05-11467 Filed 6-13-05; 8:45 am]

BILLING CODE 6560-50-P